DEPARTMENT OF VETERANS AFFAIRS

Research Advisory Committee on Gulf War Veterans' Illnesses, Notice of Meeting

The Department of Veterans Affairs (VA) gives notice under the Federal Advisory Committee Act, 5 U.S.C. ch. 10., that the Research Advisory Committee on Gulf War Veterans' Illnesses will meet at The Benson Hotel & Faculty Club, 13025 E Montview Blvd., Aurora, CO 80045 in the Ballroom. The meeting sessions will begin and end as follows:

Dates | Times
August 20, 2024 | 11:00 a.m. to 5:00 p.m. Eastern Time (ET).
August 21, 2024 | 11:00 a.m. to 2:00 p.m. (ET).

All sessions will be open to the public. For interested parties who cannot attend in person, this meeting will also be available by videoconference by connecting to Webex at the following URLs:

August 20, 2024, 11:00 a.m. to 5:00 p.m. (ET): https://veteransaffairs.webex.com/veteransaffairs/j.php?MTID=mf8041252f79288e6e3dae062aa7d856c or join by phone: 1-833-558-0712 Toll-free; meeting number (access code): 2828 129 4501. Meeting password: GWVET1991!

August 21, 2024, 11:00 a.m. to 2:00 p.m. (ET): https://veteransaffairs.webex.com/veteransaffairs/j.php?MTID=m6a2eeeff9e182753391e8f5dbc0a3571 or join by phone: 1-833-558-0712 Toll-free; meeting number (access code): 2824 038 6205. Meeting password: GWVETS1991!

The purpose of the Committee is to provide advice and make recommendations to the Secretary of Veterans Affairs on proposed research studies, research plans, and research strategies relating to the health consequences of military service in the Southwest Asia theater of operations during the Gulf War in 1990-91.

The Committee will review VA program activities related to Gulf War Veterans' illnesses and updates on relevant scientific research published since the last Committee meeting. This meeting will focus in part on (1) diversity, equity, inclusion, and women's health research, (2) research project updates, (3) updates on committee membership and recommendations, and (4) a report from the Veteran Engagement Subcommittee.

The meeting will include time reserved for public comments before the meeting closes each day. Individuals wishing to make public comments should contact VARACGWVI@va.gov. Public comment speakers are requested to submit a 1-2-page summary of their comments for inclusion in the official meeting record. Written comments will also be accepted for the record. Members of the public who have confirmed public speaker registrations will be allowed to provide public comment first followed by non-registered speakers time permitting. Each public comment speaker will be held to a 5-minute time limit. Individuals wishing to seek additional information should contact Dr. Karen Block, Designated Federal Officer, at Karen.Block@va.gov.

Dated: July 26, 2024.
LaTonya L. Small,
Federal Advisory Committee Management Officer.

[FR Doc. 2024-16829 Filed 7-30-24; 8:45 am]

BILLING CODE 8320-01-P